PEACE CORPS

Proposed Information Collection Requests

AGENCY: Peace Corps.

ACTION: Notice of public use form review request to the Office of Management and Budget (OMB Control Number 0420-0510).

SUMMARY: Pursuant to the Paperwork Reduction Act of 1981 (44 U.S.C. Chapter 35), the Peace Corps has submitted to the Office of Management and Budget (OMB) a request for approval of an information collection, OMB Control Number 0420-0510, the Peace Corps Health Status Review form (PC-1789) and the Report of Medical and Dental Exam forms (PC-1790 S and PC-1790 Dental). This is a renewal of an active information collection and a revision. The current active renewal covers the Peace Corps Health Status Review form (PC-1789) and the Report of Medical Exam (PC-1790 S). The revision is to add an HIV Aids question to the PC-1789 form and to add the Report of Dental Exam form (PC-1790) to this collection for a total of three forms to make up the health applications for Peace Corps Volunteers. The purpose of this information collection is necessary to ensure that Volunteers meet this medical eligibility requirement, all applicants for service must undergo physical and dental examination prior to Volunteer service to provide the information needed for clearance, and to serve as a reference for any future Volunteer medical clearance, and to serve as a reference for any future Volunteer disability claims. The Health Status Review is used to review the medical history of individual applicants; the Report of Medical Exam and the Report of Dental Exam are used by the examining physician and dentist both for applicants and for currently serving Volunteers. The results of these examinations are used to ensure that applicants for Volunteer service will, with reasonable accommodation, be able to serve in the Peace Corps without jeopardizing their health.

The purpose of this notice is to allow for public comment on whether the proposed collection of information is necessary for the proper performance of the functions of the Peace Corps, including whether their information will have practical use; the accuracy of the agency's estimate of the burden of the proposed collection of information, including the validity of the methodology and assumptions used; ways to enhance the quality, utility and the clarity of the information to be collected; and, ways to minimize the burden of the collection of information on those who are to respond, including through the use of automated collection techniques, when appropriate, and other forms of information technology.

A copy of the information collection may be obtained from Ms. Susan Bourse, Peace Corps, Office of Volunteer Support, 1111 20th Street, NW., Room 5106, Washington, DC 20526. Ms. Boorse may be contacted by telephone at 202-692-140. Ms. Boorse may be e-mailed at sboorse@peacecorps.gov. Comments on the form should also be addressed to the attention of Ms. Boorse and should be received on or before December 22, 2003.

Information Collection Abstract

Title: The Peace Corps Health Status Review form (PC-1789) and the Report of Medical and Dental Exam forms (PC-1790 S and PC-1790 Dental).

Need for and Use of This Information: The Health Status Review is used to review the medical history of individual applicants; the Report of Medical Exam and the Report of Dental Exam are used by the examining physician and dentist both for applicants and for currently serving Volunteers. The results of these examinations are used to ensure that applicants for Volunteer service will, with reasonable accommodation, be able to serve in the Peace Corps without jeopardizing their health.

Respondents: Potential and current Volunteers.

Respondent's Obligation to Reply: Voluntary.

Burden on the Public:

| PC-1789 Health status review | PC-1790 S Report of medical exam | PC-1790 Dental report of dental exam
a. Estimated number of respondents | 9,700 | 6,000 | 6,000.
b. Estimated average burden per response | 45 minutes | 30 minutes | 30 minutes.
c. Frequency of response | one time | one time | one time.
d. Annual reporting burden | 7,275 hours | 3,000 hours | 3,000 hours.
e. Estimated annual cost to respondents | $138,298 | $57,030 | $57,030.

This notice is issued in Washington, DC on October 8, 2003.
Gopal Khanna,
Chief Information Officer.

[FR Doc. 03-26793 Filed 10-22-03; 8:45 am]

BILLING CODE 6051-01-M